DEPARTMENT OF THE INTERIOR

National Park Service

[NPS-WASO-NAGPRA-NPS0039244; PPWOCRADN0-PCU00RP14.R50000]

Notice of Inventory Completion: Milwaukee Public Museum, Milwaukee, WI

AGENCY: National Park Service, Interior.

ACTION: Notice.

SUMMARY: In accordance with the Native American Graves Protection and Repatriation Act (NAGPRA), the Milwaukee Public Museum has completed an inventory of human remains and associated funerary objects and has determined that there is a cultural affiliation between the human remains and associated funerary objects and Indian Tribes or Native Hawaiian organizations in this notice.

DATES: Repatriation of the human remains and associated funerary objects in this notice may occur on or after January 29, 2025.

ADDRESSES: Dawn Scher Thomae, Milwaukee Public Museum, 800 W Wells Street, Milwaukee, WI 53233 telephone (414) 278-6157, email thomae@mpm.edu.

SUPPLEMENTARY INFORMATION: This notice is published as part of the National Park Service's administrative responsibilities under NAGPRA. The determinations in this notice are the sole responsibility of the Milwaukee Public Museum, and additional information on the determinations in this notice, including the results of consultation, can be found in its inventory or related records. The National Park Service is not responsible for the determinations in this notice.

Abstract of Information Available

Human remains representing, at least, 67 individuals have been identified. The 3,967 associated funerary objects are hornstone blades, bifaces, chert blades, flakes; charcoal; copper artifacts including awls, crescents, points, beads; wood fragments; quartzite flakes; stone fragments; soil samples; stone points and cores; birchbark fragments; shell beads, red sandstone/catlinite fragments; worked stone or whetstones; limonite; seeds, bark, deer premolar, and a shell.

The Riverside Site was excavated jointly by the Oshkosh Public Museum (OPM) and MPM between 1961 and 1963. The excavation was led by Robert Hrushka of OPM and Robert Ritzenthaler of MPM. Most of the site collections were donated to the MPM by the Oshkosh Public Museum on 9/26/1968. The Riverside Site is considered a multicomponent site representing Late Archaic to the Mississippian time periods, with the main component being a Late Archaic/Early Woodland Transition/Red Ochre Culture cemetery dating between 1000 and 100 BC.

The MPM is unaware of the presence of any potentially hazardous substances used to treat any of the human remains or associated funerary objects.

Cultural Affiliation

Based on the information available and the results of consultation, cultural affiliation is clearly identified by the information available about the human remains and associated funerary objects described in this notice.

Determinations

The Milwaukee Public Museum has determined that:

• The human remains described in this notice represent the physical remains of at least 67 individuals of Native American ancestry.

• The 3,967 objects described in this notice are reasonably believed to have been placed intentionally with or near individual human remains at the time of death or later as part of the death rite or ceremony.

• There is a connection between the human remains and associated funerary objects described in this notice and the Menominee Indian Tribe of Wisconsin.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 29, 2025. If competing requests for repatriation are received, the Milwaukee Public Museum must determine the most appropriate requestor prior to repatriation. Requests for joint repatriation of the human remains and associated funerary objects are considered a single request and not competing requests. The Milwaukee Public Museum is responsible for sending a copy of this notice to the Indian Tribes and Native Hawaiian organizations identified in this notice.

Authority: Native American Graves Protection and Repatriation Act, 25 U.S.C. 3003, and the implementing regulations, 43 CFR 10.10.

Dated: December 19, 2024.
Melanie O'Brien,
Manager, National NAGPRA Program.

[FR Doc. 2024-31281 Filed 12-27-24; 8:45 am]

BILLING CODE 4312-52-P